DEPARTMENT OF LABOR

Employment and Training Administration

[TA-W-64,096B]

Hickory Hardware, Administration Division, Including On-Site Leased Workers From Aerotek, Nashville, TN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on November 3, 2008, applicable to workers of Hickory Hardware, Administration Division, Nashville, Tennessee. The notice will be published soon in the Federal Register.

At the request of a company official, the Department reviewed the certification for workers of the subject firm. The workers provide administrative support for the production of casters at the subject firm.

New information shows that workers leased from Aerotek were employed on-site at the Nashville, Tennessee location of Hickory Hardware, Administration Division. The Department has determined that these workers were sufficiently under the control of Hickory Hardware, Administration Division to be considered leased workers.

Based on these findings, the Department is amending this certification to include workers leased from Aerotek working on-site at the Nashville, Tennessee location of the subject firm.

The intent of the Department's certification is to include all workers employed at Hickory Hardware, Administration Division, Nashville, Tennessee who were adversely affected by increased imports of casters.

The amended notice applicable to TA-W-64,096B is hereby issued as follows:

“All workers of Hickory Hardware, Administration Division, including on-site leased workers from Aerotek, Nashville, Tennessee, who became totally or partially separated from employment on or after September 22, 2007, through November 3, 2010, are eligible to apply for adjustment assistance under Section 223 of the Trade Act of 1974, and are also eligible to apply for alternative trade adjustment assistance under Section 246 of the Trade Act of 1974.”

Signed at Washington, DC, this 19th day of November 2008.
Richard Church,
Certifying Officer, Division of Trade Adjustment Assistance.

[FR Doc. E8-28362 Filed 11-28-08; 8:45 am]

BILLING CODE 4510-FN-P